DEPARTMENT OF THE INTERIOR

National Park Service

Notice of Intent To Prepare a Draft Environmental Impact Statement (EIS) for the General Management Plan for Little River Canyon National Preserve, AL

AGENCY: National Park Service, Interior.

ACTION: Notice.

SUMMARY: Pursuant to section 102(2)(C) of the National Environmental Policy Act of 1969, National Park Service (NPS) policy in Director's Order Number 2 (Park Planning) and Director's Order Number 12 (Conservation Planning, Environmental Impact Analysis, and Decisionmaking), the NPS will prepare an EIS for the General Management Plan (GMP) for Little River Canyon National Preserve. The authority for publishing this notice is contained in 40 CFR 1506.6.

The NPS will conduct public scoping meetings in the local area to receive input from interested parties on issues, concerns, and suggestions pertinent to the management of Little River Canyon National Preserve. Suggestions and ideas for managing cultural and natural resource conditions and visitor experiences at the national preserve are encouraged. The comment period for each of these meetings will be announced at the meetings and will be published on the GMP web site for Little River Canyon National Preserve at http://www.nps.gov/sero/planning/liri_gmp/liri_info.htm.

DATES: Locations, dates, and times of public scoping meetings will be published in local newspapers and may also be obtained by calling Little River Canyon National Preserve. This information will also be published on the GMP Web site for Little River Canyon National Preserve.

ADDRESSES: Scoping suggestions should be submitted to the following address to ensure adequate consideration by the NPS: Superintendent, Little River Canyon National Preserve, 2141 Gault Avenue North, Fort Payne, Alabama 35967.

FOR FURTHER INFORMATION CONTACT: Superintendent, Little River Canyon National Preserve, (256) 845-9605.

SUPPLEMENTARY INFORMATION: The NPS has announced that an EIS on GMPs will be prepared for all park units. To comply with this policy, a formal scoping period is announced.

Comments are invited on any issue believed to be relevant to the management of Little River Canyon National Preserve and should be submitted to the Superintendent whose address is given above. Public scoping meetings will be held in the local area and the dates and times may be obtained from local newspapers or by calling Little River Canyon National Preserve. We urge that comments and suggestions be made in writing.

The plan will identify desired future conditions for cultural and natural resources and visitor experiences for various management zones within Little River Canyon National Preserve. Central to these desired future conditions is the determination of the national preserve's mission, purpose, and significance. A draft GMP/EIS will be prepared and presented to the public for review and comment, followed by preparation and availability of the final GMP/EIS.

Our practice is to make comments, including names and addresses of respondents, available for public review during regular business hours. If you wish for us to withhold your name and/or address, you must state this prominently at the beginning of your comment. However, we will not consider anonymous comments. We will make all submissions from organizations or businesses, and from individuals identifying themselves as representatives or officials of organizations or businesses, available for public inspection in their entirety.

The responsible official for this EIS is Patricia A. Hooks, Regional Director, Southeast Region, National Park Service, 100 Alabama Street SW., 1924 Building, Atlanta, Georgia 30303.

Dated: May 11, 2005.
Patricia A. Hooks,
Regional Director, Southeast Region.

[FR Doc. 05-14350 Filed 7-20-05; 8:45 am]

BILLING CODE 4312-KC-P